DEPARTMENT OF THE INTERIOR

Bureau of Reclamation

Shasta Lake Water Resources Investigation, Shasta and Tehama Counties, CA

AGENCY: Bureau of Reclamation, Interior.

ACTION: Notice of additional public scoping meeting.

SUMMARY: The Bureau of Reclamation will hold an additional public scoping meeting to solicit input on the scope of the environmental document, alternatives, concerns, and issues to be addressed in the EIS to be prepared. The notice of intent to prepare the EIS and notice of public scoping meetings was published in the Federal Register on October 7, 2005 (70 FR 58744).

DATES: The additional scoping meeting will be held on Thursday, November 3, 2005, from 11 a.m. to 3 p.m.

The existing meeting dates are as follows:

• October 24, 2005, 10 a.m. to 1 p.m., Sacramento, CA.

• October 24, 2005, 6 to 9 p.m., Concord, CA.

• October 26, 2005, 1 to 4 p.m., Los Angeles, CA.

• November 1, 2005, 6 to 9 p.m., Fresno, CA.

• November 2, 2005, 6 to 9 p.m., Dunsmuir, CA.

• November 3, 2005, 6 to 9 p.m., Red Bluff, CA.

ADDRESSES: The additional scoping meeting will be held at the Redding Veterans Hall, 1605 Yuba Street, Redding, CA.

The existing public scoping meeting locations are:

• Federal Building, 2800 Cottage Way, Rooms C-1001 and C-1002, Sacramento, CA.

• Heald Conference Center, 5130 Commercial Circle, Concord, CA.

• Metropolitan Water District of Southern California, 700 North Alameda Street, Room 1-102, Los Angeles, CA.

• Piccadilly Inn, 2305 West Shaw Avenue, in Fresno, CA.

• Dunsmuir Community Building, 4835 Dunsmuir Avenue in Dunsmuir, CA.

• Red Bluff Community Center, Auditorium, 1500 South Jackson.

FOR FURTHER INFORMATION CONTACT: Ms. Donna Garcia, Reclamation Project Manager, at the above address, at (916) 978-5009, TDD (916) 978-5608, or via fax at (916) 978-5094 or e-mail at dgarcia@mp.usbr.gov. If special assistance is required, please contact Ms. Sammie Cervantes at (916) 978-5189, TDD (916) 978-5608, or via e-mail at scervantes@mp.usbr.gov no less than 5 working days prior to the meetings.

Dated: October 19, 2005.
Michael Nepstad,
Regional Environmental Officer, Mid-Pacific Region.

[FR Doc. 05-21260 Filed 10-24-05; 8:45 am]

BILLING CODE 4310-MN-P